DEPARTMENT OF HOMELAND SECURITY

Coast Guard

33 CFR Parts 100 and 165

[Docket No. USCG-2010-0110]

RIN 1625-AA08; AA00

Special Local Regulations and Safety Zones; Recurring Events in Northern New England

AGENCY: Coast Guard, DHS.

ACTION: Final rule.

SUMMARY: The Coast Guard is amending special local regulations and establishing permanent safety zones in the Coast Guard Northern New England Captain of the Port (COTP) Zone for annual recurring marine events. When these special local regulations or safety zones are activated, and thus subject to enforcement, this rule restricts vessels from portions of water areas during annual events in the Northern New England COTP Zone. The revised special local regulations and safety zones reduce administrative overhead, expedite public notification of events, and ensure the protection of the maritime public and event participants from the hazards associated with firework displays, boat races, and other marine events.

DATES: This rule is effective April 29, 2011.

ADDRESSES: Comments and material received from the public, as well as documents mentioned in this preamble as being available in the docket, are part of docket USCG-2010-0110 and are available online by going to http://www.regulations.gov, inserting USCG-2010-0110 in the “Keyword” box, and then clicking “Search.” This material is also available for inspection or copying at the Docket Management Facility (M-30), U.S. Department of Transportation, West Building Ground Floor, Room W12-140, 1200 New Jersey Avenue SE., Washington, DC 20590, between 9 a.m. and 5 p.m., Monday through Friday, except Federal holidays.

FOR FURTHER INFORMATION CONTACT: If you have questions on this rule, call or e-mail Lieutenant Junior Grade Terence Leahy, Waterways Management Division at Coast Guard Sector Northern New England, telephone 207-767-0398, e-mail Terence.O.Leahy@uscg.mil. If you have questions on viewing the docket, call Renee V. Wright, Program Manager, Docket Operations, telephone 202-366-9826.

SUPPLEMENTARY INFORMATION:

Regulatory Information

On Tuesday, January 11, 2011, the Coast Guard published a notice of proposed rulemaking (NPRM) entitled “Special Local Regulations and Safety Zones; Recurring Events in Northern New England” in the Federal Register (76 FR 1568). We received no comments or requests for a public meeting on the proposed rule.

Basis and Purpose

Marine events are annually held on a recurring basis on the navigable waters within the Coast Guard Northern New England COTP Zone. These events include sailing regattas, powerboat races, rowboat races, parades, swim events, and fireworks displays. In the past, the Coast Guard has established special local regulations and regulated navigation areas for these events on a case by case basis to ensure the protection of the maritime public and event participants from the hazards associated with these marine events. Issuing individual regulations annually has proved to be administratively cumbersome.

This rule will significantly relieve administrative overhead and consistently apprise the public in a timely manner through permanent publication in Title 33 of the Code of Federal Regulations (CFR). The TABLES in this regulation list each recurring marine event requiring a regulated area as administered by the Coast Guard.

By establishing permanent regulations for these events, the Coast Guard has eliminated the need to establish temporary rules for events that occur on an annual basis. This provided opportunity for the public to comment while limiting the unnecessary burden of continually establishing temporary rules every year. Some of the events discussed below are duplicated in 33 CFR 100.114, a citation that no longer meets the Coast Guard's intended purposes. While 33 CFR part 100 is designed for Regattas and Marine Parades, 33 CFR part 165 is for Regulated Navigation Areas and Limited Access Areas. The Coast Guard has identified a number of events in 33 CFR part 100 which would be more appropriately located in 33 CFR part 165. This rulemaking amends local regulations for events already contained in 33 CFR part 100 both to update event information as well as to move firework displays to part 165, a citation that better meets the Coast Guard's intended purpose of ensuring safety during these events.

In addition, the Coast Guard has promulgated safety zones or special local regulations for all of these 52 areas in the past, and has not received public comments or concerns regarding the impact to waterway traffic from these annually recurring events.

Background

The Coast Guard in Northern New England processes over 180 marine event applications on an annual basis. Consequently, we created this rule to reduce costly administrative overhead and to decrease time consumed when drafting multiple special local regulations and regulated navigation areas for these marine events. By having permanent regulations for these events in Title 33 of the CFR also eliminates the need to establish multiple temporary rules for events that occur on an annual basis, hence greatly reducing administrative costs associated with that process.

Another purpose of this rule is to list events on a permanent basis in order to expedite public notice of all marine activity in the Coast Guard Northern New England COTP Zone.

Discussion of Comments and Changes

The Coast Guard did not receive any comments in response to the NPRM published in the Federal Register (76 FR 1568) on Tuesday, January 11, 2011. Accordingly, no changes were made to the regulatory text in the final rule.

We have added figure 2-1, paragraph (34)(g) of Commandant Instruction M16475.1D in the Environment section of the regulatory analysis, as this paragraph also pertains to the Categorical Exclusion determination for safety zones.

Regulatory Analyses

We developed this rule after considering numerous statutes and executive orders related to rulemaking. Below we summarize our analyses based on 13 of these statutes or executive orders.

Regulatory Planning and Review

This rule is not a significant regulatory action under section 3(f) of Executive Order 12866, Regulatory Planning and Review, and does not require an assessment of potential costs and benefits under section 6(a)(3) of that Order. The Office of Management and Budget has not reviewed it under that Order.

We expect the economic impact of this rule to be so minimal that a full Regulatory Evaluation is unnecessary. Although this regulation may have some impact on the public, the potential impact will be minimized for the following reasons: vessels will only be restricted from safety zones and special local regulation areas for a short duration of time unless otherwise noted; vessels may transit in all portions of the affected waterway except for those areas covered by the zones; the Coast Guard has promulgated safety zones or special local regulations in accordance with 33 CFR parts 100 and 165 for all event areas in the past and has not received notice of any negative impact caused by any of the safety zones or special local regulations; and notifications will also be made to the local maritime community via the Local Notice to Mariners and Broadcast Notice to Mariners well in advance of the events. The effect of this action simply establishes the approximate dates on which the existing regulations would be enforced and consolidates them within one regulation. No new or additional restrictions will be imposed on vessel traffic.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities. This rule will affect the following entities, some of which might be small entities: owners or operators of vessels intending to transit, fish, or anchor in the areas where safety zones for marine related fireworks events and special local regulations for regattas are being held. For the reasons outlined in the Regulatory Planning and Review section above, this rule will not have a significant impact on a substantial number of small entities.

If you think that your business, organization, or governmental jurisdiction qualifies as a small entity and that this rule will have a significant economic impact on it, please submit a comment (see ADDRESSES) explaining why you think it qualifies and how and to what degree this rule will economically affect it.

Assistance for Small Entities

Under section 213(a) of the Small Business Regulatory Enforcement Fairness Act of 1996 (Pub. L. 104-121), in the NPRM we offered to assist small entities in understanding the rule so that they could better evaluate its effects on them and participate in the rulemaking process.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

Taking of Private Property

This rule will not cause a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

Environment

We have analyzed this rule under Department of Homeland Security Management Directive 023-01 and Commandant Instruction M16475.lD, which guide the Coast Guard in complying with the National Environmental Policy Act of 1969 (NEPA)(42 U.S.C. 4321-4370f), and have concluded this action is one of a category of actions that do not individually or cumulatively have a significant effect on the human environment. This rule is categorically excluded, under figure 2-1, paragraphs (34)(g) and (34)(h) of the Instruction since it involves establishment of safety zones for marine related fireworks events and special local regulations for regattas, respectively. An environmental analysis checklist and a categorical exclusion determination are available in the docket where indicated under ADDRESSES.

List of Subjects

33 CFR Part 100

Marine safety, Navigation (water), Reporting and recordkeeping requirements, Waterways.

33 CFR Part 165

Harbors, Marine safety, Navigation (water), Reporting and recordkeeping requirements, Security measures, Waterways.

For the reasons discussed in the preamble, the Coast Guard amends 33 CFR parts 100 and 165 as follows:

PART 100—SAFETY OF LIFE ON NAVIGABLE WATERS

1. The authority citation for part 100 reads as follows:

Authority: 33 U.S.C. 1233.

§§ 100.107, 100.108, 100.109, 100.110, 100.111, and 100.118 [Removed]

2. Remove §§ 100.107, 100.108, 100.109, 100.110, 100.111, and 100.118.

§ 100.114 [Amended]

3. In § 100.114, amend the table in paragraph (a) by removing the entries for 6.1, 7.3, 7.8, 7.12, 7.13, 7.14, 7.15, 7.41, 8.8, and 9.2.

4. Add a new § 100.120 to read as follows:

§ 100.120 Special Local Regulations; Marine Events Held in the Coast Guard Sector Northern New England Captain of the Port Zone.

The following regulations apply to the marine events listed in the Table to § 100.120. These regulations will be enforced for the duration of each event, on or about the dates indicated. Annual notice of the exact dates and times of the effective period of the regulations with respect to each event, the geographical description of each regulated area, and details concerning the nature of the event and the number of participants and type(s) of vessels involved will be published in a Notice of Enforcement in the Federal Register and in Local Notices to Mariners. Mariners should consult the Federal Register or their Local Notice to Mariners to remain apprised of schedule or event changes. First Coast Guard District Local Notice to Mariners can be found at: http://www.navcen.uscg.gov/. The Sector Northern New England Marine Events schedule can also be viewed electronically at http://www.homeport.uscg.mil.

Note to introductory paragraph of § 100.20: Although listed in the Code of Federal Regulations, sponsors of events listed in the Table to § 100.20 are still required to submit marine event applications in accordance with 33 CFR 100.15.

(a) The Coast Guard may patrol each event area under the direction of a designated Coast Guard Patrol Commander. The Patrol Commander may be contacted on Channel 16 VHF-FM (156.8 MHz) by the call sign “PATCOM.” Official patrol vessels may consist of any Coast Guard, Coast Guard Auxiliary, state, or local law enforcement vessels assigned or approved by the Captain of the Port, Sector Northern New England.

(b) Vessels may not transit the regulated areas without the Patrol Commander approval. Vessels permitted to transit must operate at a no wake speed, in a manner which will not endanger participants or other crafts in the event.

(c) Spectators or other vessels shall not anchor, block, loiter, or impede the transit of event participants or official patrol vessels in the regulated areas during the effective dates and times, or dates and times as modified through the Local Notice to Mariners, unless authorized by an official patrol vessel.

(d) The Patrol Commander may control the movement of all vessels in the regulated area. When hailed or signaled by an official patrol vessel, a vessel shall come to an immediate stop and comply with the lawful directions issued. Failure to comply with a lawful direction may result in expulsion from the area, citation for failure to comply, or both.

(e) The Patrol Commander may delay or terminate any marine event in this subpart at any time it is deemed necessary to ensure the safety of life or property.

(f) For all power boat races listed, vessels operating within the regulated area must be at anchor within a designated spectator area or moored to a waterfront facility in a way that will not interfere with the progress of the event.

(g) For all regattas and boat parades listed, spectator vessels operating within the regulated area shall maintain a separation of at least 50 yards from the participants.

(h) For all rowing and paddling boat races listed, vessels not associated with the event shall maintain a separation of at least 50 yards from the participants.

Table to § 100.120
5.0 | MAY
5.1 Tall Ships Visiting Portsmouth | • Event Type: Regatta and Boat Parade.
| • Sponsor: Portsmouth Maritime Commission, Inc.
| • Date: A four day event from Friday through Monday during the last weekend in May, as specified in the USCG District 1 Local Notice to Mariners.
| • Time: 9:00 a.m. to 8:00 p.m. each day.
| • Location: The regulated area includes all waters of Portsmouth Harbor, New Hampshire in the vicinity of Castle Island within the following points (NAD 83):
| 43° 03′11″ N 070° 42′26″ W.
| 43° 03′18″ N 070° 41′51″ W.
| 43° 04′42″ N 070° 42′11″ W.
| 43° 04′28″ N 070° 44′12″ W.
| 43° 05′36″ N 070° 45′56″ W.
| 43° 05′29″ N 070° 46′09″ W.
| 43° 04′19″ N 070° 44′16″ W.
| 43° 04′22″ N 070° 42′33″ W.
6.0 | JUNE
6.1 Bar Harbor Blessing of the Fleet. | • Event Type: Regatta and Boat Parade.
| • Sponsor: Town of Bar Harbor, Maine.
| • Date: A one day event on Sunday during the first weekend of June, as specified in the USCG District 1 Local Notice to Mariners.
| • Time: 12:00 p.m. to 1:30 p.m.
| • Location: The regulated area includes all waters of Bar Harbor, Maine within the following points (NAD 83):
| 44° 23′32″ N 068° 12′19″ W.
| 44° 23′30″ N 068° 12′00″ W.
| 44° 23′37″ N 068° 12′00″ W.
| 44° 23′35″ N 068° 12′19″ W.
6.2 Charlie Begin Memorial Lobster Boat Races | • Event Type: Power Boat Race. • Sponsor: Boothbay Harbor Lobster Boat Race Committee.
| • Date: A one day event on Saturday during the third weekend of June, as specified in the USCG District 1 Local Notice to Mariners.
| • Time: 10:00 a.m. to 3:00 p.m.
| • Location: The regulated area includes all waters of Boothbay Harbor, Maine in the vicinity of within John's Island the following points (NAD 83):
| 43° 50′04″ N 069° 38′37″ W.
| 43° 50′54″ N 069° 38′06″ W.
| 43° 50′49″ N 069° 37′50″ W.
| 43° 50′00″ N 069° 38′20″ W.
6.3 Rockland Harbor Lobster Boat Races | • Event Type: Power Boat Race. • Sponsor: Rockland Harbor Lobster Boat Race Committee.
| • Date: A one day event on Sunday during the third weekend of June, as specified in the USCG District 1 Local Notice to Mariners.
| • Time: 9:00 a.m. to 5:00 p.m.
| • Location: The regulated area includes all waters of Rockland Harbor, Maine in the vicinity of the Rockland Breakwater Light within the following points (NAD 83):
| 44° 05′59″ N 069° 04′53″ W.
| 44° 06′43″ N 069° 05′25″ W.
| 44° 06′50″ N 069° 05′05″ W.
| 44° 06′05″ N 069° 04′34″ W.
6.4 Windjammer Days Parade of Ships | • Event Type: Tall Ship Parade. • Sponsor: Boothbay Region Chamber of Commerce.
| • Date: A one day event on Wednesday during the last week of June, as specified in the USCG District 1 Local Notice to Mariners.
| • Time: 12:00 p.m. to 5:00 p.m.
| • Location: The regulated area includes all waters of Boothbay Harbor, Maine in the vicinity of Tumbler's Island within the following points (NAD 83):
| 43° 51′02″ N 069° 37′33″ W.
| 43° 50′47″ N 069° 37′31″ W.
| 43° 50′23″ N 069° 37′57″ W.
| 43° 50′01″ N 069° 37′45″ W.
| 43° 50′01″ N 069° 38′31″ W.
| 43° 50′25″ N 069° 38′25″ W.
| 43° 50′49″ N 069° 37′45″ W.
7.0 | JULY
7.1 Moosabec Lobster Boat Races. | • Event Type: Power Boat Race.
| • Sponsor: Moosabec Boat Race Committee.
| • Date: A one day event held on July 4th, as specified in the USCG District 1 Local Notice to Mariners.
| • Time: 10:00 a.m. to 12:30 p.m.
| • Location: The regulated area includes all waters of Jonesport, Maine within the following points (NAD 83):
| 44° 31′21″ N 067° 36′44″ W.
| 44° 31′36″ N 067° 36′47″ W.
| 44° 31′44″ N 067° 35′36″ W.
| 44° 31′29″ N 067° 35′33″ W.
7.2 The Great Race | • Event Type: Rowing and Paddling Boat Race.
| • Sponsor: Franklin County Chamber of Commerce.
| • Date: A one day event on Sunday during the first week of July, as specified in the USCG District 1 Local Notice to Mariners.
| • Time: 10:00 a.m. to 12:30 p.m.
| • Location: The regulated area includes all waters of Lake Champlain in the vicinity of Saint Albans Bay within the following points (NAD 83):
| 44° 47′18″ N 073° 10′27″ W.
| 44° 47′10″ N 073° 08′51″ W.
7.3 Searsport Lobster Boat Races | • Event Type: Power Boat Race.
| • Sponsor: Searsport Lobster Boat Race Committee.
| • Date: A one day event on Saturday during the second week of July, as specified in the USCG District 1 Local Notice to Mariners.
| • Time: 9:00 a.m. to 4:00 p.m.
| • Location: The regulated area includes all waters of Searsport Harbor, Maine within the following points (NAD 83):
| 44° 26′50″ N 068° 55′20″ W.
| 44° 27′04″ N 068° 55′26″ W.
| 44° 27′12″ N 068° 54′35″ W.
| 44° 26′59″ N 068° 54′29″ W.
7.4 Stonington Lobster Boat Races. | • Event Type: Power Boat Race.
| • Sponsor: Stonington Lobster Boat Race Committee.
| • Date: A one day event on Saturday during the second week of July, as specified in the USCG District 1 Local Notice to Mariners.
| • Time: 8:00 a.m. to 3:30 p.m.
| • Location: The regulated area includes all waters of Stonington, Maine within the following points (NAD 83):
| 44° 08′55″ N 068° 40′12″ W.
| 44° 09′00″ N 068° 40′15″ W.
| 44° 09′11″ N 068° 39′42″ W.
| 44° 09′07″ N 068° 39′39″ W.
7.5 Mayor's Cup Regatta | • Event Type: Sailboat Parade.
| • Sponsor: Plattsburgh Sunrise Rotary.
| • Date: A one day event on Saturday during the second week of July, as specified in the USCG District 1 Local Notice to Mariners.
| • Time: 10:00 a.m. to 4:00 p.m.
| • Location: The regulated area includes all waters of Cumberland Bay on Lake Champlain in the vicinity of Plattsburgh, New York within the following points (NAD 83):
| 44° 39′26″ N 073° 26′25″ W.
| 44° 41′27″ N 073° 23′12″ W.
7.6 The Challenge Race | • Event Type: Rowing and Paddling Boat Race.
| • Sponsor: Lake Champlain Maritime Museum.
| • Date: A one day event on Saturday during the third week of July, as specified in the USCG District 1 Local Notice to Mariners.
| • Time: 11:00 a.m. to 3:00 p.m.
| • Location: The regulated area includes all waters of Lake Champlain in the vicinity of Button Bay State Park within the following points (NAD 83):
| 44° 12′25″ N 073° 22′32″ W.
| 44° 12′00″ N 073° 21′42″ W.
| 44° 12′19″ N 073° 21′25″ W.
| 44° 13′16″ N 073° 21′36″ W.
7.7 Friendship Lobster Boat Races. | • Event Type: Power Boat Race.
| • Sponsor: Friendship Lobster Boat Race Committee.
| • Date: A one day event on Saturday during the last week of July, as specified in the USCG District 1 Local Notice to Mariners.
| • Time: 9:30 a.m. to 3:00 p.m.
| • Location: The regulated area includes all waters of Friendship Harbor, Maine within the following points (NAD 83):
| 43° 57′51″ N 069° 20′46″ W.
| 43° 58′14″ N 069° 19′53″ W.
| 43° 58′19″ N 069° 20′01″ W.
| 43° 58′00″ N 069° 20′46″ W.
7.8 Arthur Martin Memorial Regatta. | • Event Type: Rowing and Paddling Boat Race.
| • Sponsor: I Row.
| • Date: A one day event on Saturday during the last week of July, as specified in the USCG District 1 Local Notice to Mariners.
| • Time: 9:00 a.m. to 1:00 p.m.
| • Location: The regulated area includes all waters of the Piscataqua River, in the vicinity of Kittery Point, Maine within the following points (NAD 83):
| 43° 03′51″ N 070° 41′55″ W.
| 43° 04′35″ N 070° 42′18″ W.
| 43° 04′42″ N 070° 43′15″ W.
| 43° 05′14″ N 070° 43′12″ W.
| 43° 05′14″ N 070° 43′06″ W.
| 43° 04′44″ N 070° 43′11″ W.
| 43° 04′35″ N 070° 42′13″ W.
| 43° 03′53″ N 070° 41′40″ W.
7.9 Harpswell Lobster Boat Races. | • Event Type: Power Boat Race.
| • Sponsor: Harpswell Lobster Boat Race Committee.
| • Date: A one day event on Sunday during the last week of July, as specified in the USCG District 1 Local Notice to Mariners.
| • Time: 10:00 a.m. to 3:00 p.m.
| • Location: The regulated area includes all waters of Potts Harbor, Maine within the following points (NAD 83):
| 43° 46′50″ N 070° 01′37″ W.
| 43° 46′50″ N 070° 01′18″ W.
| 43° 46′28″ N 070° 01′36″ W.
| 43° 46′28″ N 070° 01′19″ W.
8.0 | AUGUST
8.1 Eggemoggin Reach Regatta | • Event Type: Wooden Boat Parade.
| • Sponsor: Rockport Marine, Inc. and Brookline Boat Yard.
| • Date: A one day event on Saturday during the first week of August, as specified in the USCG District 1 Local Notice to Mariners.
| • Time: 11:00 a.m. to 7:00 p.m.
| • Location: The regulated area includes all waters of Eggemoggin Reach and Jericho Bay in the vicinity of Naskeag Harbor, Maine within the following points (NAD 83):
| 44° 15′16″ N 068° 36′26″ W.
| 44° 12′41″ N 068° 29′26″ W.
| 44° 07′38″ N 068° 31′30″ W.
| 44° 12′54″ N 068° 33′46″ W.
8.2 Southport Rowgatta Rowing and Paddling Boat Race | • Event Type: Rowing and Paddling Boat Race. • Sponsor: Boothbay Region YMCA.
| • Date: A one day event on Saturday during the second week of August, as specified in the USCG District 1 Local Notice to Mariners.
| • Time: 8:00 a.m. to 3:00 p.m.
| • Location: The regulated area includes all waters of Sheepscot Bay and Boothbay, on the shore side of Southport Island, Maine within the following points (NAD 83):
| 43° 50′26″ N 069° 39′10″ W.
| 43° 49′10″ N 069° 38′35″ W.
| 43° 46′53″ N 069° 39′06″ W.
| 43° 46′50″ N 069° 39′32″ W.
| 43° 49′07″ N 069° 41′43″ W.
| 43° 50′19″ N 069° 41′14″ W.
| 43° 51′11″ N 069° 40′06″ W.
8.3 Winter Harbor Lobster Boat Races | • Event Type: Power Boat Race. • Sponsor: Winter Harbor Chamber of Commerce.
| • Date: A one day event on Saturday during the second week of August, as specified in the USCG District 1 Local Notice to Mariners.
| • Time: 9:00 a.m. to 3:00 p.m.
| • Location: The regulated area includes all waters of Winter Harbor, Maine within the following points (NAD 83):
| 44° 22′06″ N 068° 05′13″ W.
| 44° 23′06″ N 068° 05′08″ W.
| 44° 23′04″ N 068° 04′37″ W.
| 44° 22′05″ N 068° 04′44″ W.
8.4 Lake Champlain Dragon Boat Festival | • Event Type: Rowing and Paddling Boat Race. • Sponsor: Dragonheart Vermont.
| • Date: A one day event on Sunday during the second week of August, as specified in the USCG District 1 Local Notice to Mariners.
| • Time: 7:00 a.m. to 5:00 p.m.
| • Location: The regulated area includes all waters of Burlington Bay within the following points (NAD 83):
| 44° 28′51″ N 073° 13′28″ W.
| 44° 28′40″ N 073° 13′40″ W.
| 44° 28′37″ N 073° 13′29″ W.
| 44° 28′40″ N 073° 13′17″ W.
8.5 Merritt Brackett Lobster Boat Races | • Event Type: Power Boat Race. • Sponsor: Town of Bristol, Maine.
| • Date: A one day event on Sunday during the second week of August, as specified in the USCG District 1 Local Notice to Mariners.
| • Time: 10:00 a.m. to 3:00 p.m.
| • Location: The regulated area includes all waters of Pemaquid Harbor, Maine within the following points (NAD 83):
| 43° 52′16″ N 069° 32′10″ W.
| 43° 52′41″ N 069° 31′43″ W.
| 43° 52′35″ N 069° 31′29″ W.
| 43° 52′09″ N 069° 31′56″ W.
8.6 Multiple Sclerosis Regatta | • Event Type: Regatta and Sailboat Race.
| • Sponsor: Maine Chapter, Multiple Sclerosis Society.
| • Date: A one day event on Saturday during the third week of August, as specified in the USCG District 1 Local Notice to Mariners.
| • Time: 10:00 a.m. to 4:00 p.m.
| • Location: The regulated area for the start of the race includes all waters of Casco Bay, Maine in the vicinity of Peaks Island within the following points (NAD 83):
| 43° 40′24″ N 070° 14′20″ W.
| 43° 40′36″ N 070° 13′56″ W.
| 43° 39′58″ N 070° 13′21″ W.
| 43° 39′46″ N 070° 13′51″ W.
8.7 Multiple Sclerosis Harborfest Tugboat Race | • Event Type: Power Boat Race. • Sponsor: Maine Chapter, National Multiple Sclerosis Society.
| • Date: A one day event on Sunday during the third week of August, as specified in the USCG District 1 Local Notice to Mariners.
| • Time: 10:00 a.m. to 3:00 p.m.
| • Location: The regulated area includes all waters of Portland Harbor, Maine in the vicinity of Maine State Pier within the following points (NAD 83):
| 43° 40′25″ N 070° 14′21″ W.
| 43° 40′36″ N 070° 13′56″ W.
| 43° 39′58″ N 070° 13′21″ W.
| 43° 39′47″ N 070° 13′51″ W.
9.0 | SEPTEMBER
9.1 Eastport Pirates Festival Lobster Boat Races | • Event Type: Power Boat Race. • Sponsor: Eastport Pirates Festival.
| • Date: A one day event on Sunday during the second weekend of September, as specified in the USCG District 1 Local Notice to Mariners.
| • Time: 11:00 a.m. to 6:00 p.m.
| • Location: The regulated area includes all waters in the vicinity of Eastport Harbor, Maine within the following points (NAD 83):
| 44° 54′14″ N 066° 58′52″ W.
| 44° 54′14″ N 068° 58′56″ W.
| 44° 54′24″ N 066° 58′52″ W.
| 44° 54′24″ N 066° 58′56″ W.

PART 165—REGULATED NAVIGATION AREAS AND LIMITED ACCESS AREAS

1. The authority citation for Part 165 continues to read as follows:

Authority: 33 U.S.C. 1226, 1231; 46 U.S.C. Chapter 701, 3306, 3703; 50 U.S.C. 191, 195; 33 CFR 1.05-1, 6.04-1, 6.04-6, and 160.5; Pub. L. 107-295, 116 Stat. 2064; Department of Homeland Security Delegation No. 0170.1.

2. Add a new § 165.171 to read as follows:

§ 165.171 Safety Zones for Fireworks Displays held in Coast Guard Sector Northern New England Captain of the Port Zone.

The Coast Guard is establishing safety zones for the fireworks displays listed in the Table to § 165.171. These regulations will be enforced for the duration of each event, on or about the dates indicated in the Table to § 165.171. Annual notice of the exact dates and times of the effective period of the regulations with respect to each firework displays, the geographical description of each regulated area, and details concerning the nature of the event and the number of participants and type(s) of vessels involved will be published in a Notice of Enforcement in the Federal Register and in Local Notices to Mariners. Mariners should consult the Federal Register and their Local Notice to Mariners to remain apprised of minor schedule or event changes. First Coast Guard District Local Notice to Mariners can be found at: http://www.navcen.uscg.gov/. The Sector Northern New England Marine Events schedule can also be viewed electronically at: www.homeport.uscg.mil.

Note to introductory paragraph of § 165.171: Although listed in the Code of Federal Regulations, sponsors of events listed in the Table to § 165.171 shall submit an application each year in accordance with 33 CFR 100.15.

(a) The Coast Guard may patrol each event area under the direction of a designated Coast Guard Patrol Commander. The Patrol Commander may be contacted on Channel 16 VHF-FM (156.8 MHz) by the call sign “PATCOM.” The “official patrol vessels” may consist of any Coast Guard, Coast Guard Auxiliary, state, or local law enforcement vessels assigned or approved by the Captain of the Port, Sector Northern New England.

(b) Vessels may not transit the regulated areas without Patrol Commander approval. Vessels permitted to transit must operate at a no wake speed, in a manner which will not endanger participants or other crafts in the event.

(c) Spectators or other vessels shall not anchor, block, loiter, or impede the movement of event participants or official patrol vessels in the regulated areas during the effective dates and times, or dates and times as modified through the Local Notice to Mariners, unless authorized by an official patrol vessel.

(d) The Patrol Commander may control the movement of all vessels in the regulated area. When hailed or signaled by an official patrol vessel, a vessel shall come to an immediate stop and comply with the lawful directions issued. Failure to comply with a lawful direction may result in expulsion from the area, citation for failure to comply, or both.

(e) The Patrol Commander may delay or terminate any event in this subpart at any time to assure safety. Such action may be justified as a result of weather, traffic density, spectator operation or participant behavior.

(f) For all swim events listed, vessels not associated with the event shall maintain a separation zone of 200 feet from participating swimmers.

(g) For all fireworks displays listed below, the regulated area is that area of navigable waters within a 350 yard radius of the launch platform or launch site for each fireworks display, unless modified in USCG District 1 Local Notice to Mariners at: http://www.navcen.uscg.gov/.

Table to Sec. 165.171
6.0 | JUNE
6.1 Windjammer Days Fireworks | • Event Type: Fireworks Display.
| • Sponsor: Boothbay Harbor Region Chamber of Commerce.
| • Date: One night event on Wednesday during the last week of June, as specified in the USCG District 1 Local Notice to Mariners at: www.navcen.uscg.gov/?pageName=lnmDistrict&region=1
| • Time: 8:00 pm to 10:30 pm.
| • Location: In the vicinity of McFarland Island, Boothbay Harbor, Maine in approximate position:
| 43° 50′38″ N, 069° 37′57″ W (NAD 83).
7.0 | JULY
7.1 Burlington Independence Day Fireworks | • Event Type: Firework Display.
| • Sponsor: City of Burlington, Vermont.
| • Date: July 3rd, as specified in the USCG District 1 Local Notice to Mariners.
| • Time: 9:00 pm to 11:00 pm.
| • Location: From a barge in the vicinity of Burlington Harbor, Burlington, Vermont in approximate position:
| 44° 28′31″ N, 073° 13′31″ W (NAD 83).
7.2 Camden 3rd of July Fireworks | • Event Type: Fireworks Display.
| • Sponsor: Camden, Rockport, Lincolnville Chamber of Commerce.
| • Date: July 3rd, as specified in the USCG District 1 Local Notice to Mariners.
| • Time: 8:00 pm to 10:00 pm.
| • Location: In the vicinity of Hampton Beach, New Hampshire in approximate position:
| 44° 12′32″ N, 069° 02′58″ W (NAD 83).
7.3 Bangor 4th of July Fireworks | • Event Type: Fireworks Display.
| • Sponsor: Bangor 4th of July Fireworks.
| • Date: July 4th, as specified in the USCG District 1 Local Notice to Mariners.
| • Time: 8:00 pm to 10:30 pm.
| • Location: In the vicinity of the Bangor Waterfront, Bangor, Maine in approximate position:
| 44° 47′27″ N, 068° 46′31″ W (NAD 83).
7.4 Bar Harbor 4th of July Fireworks | • Event Type: Fireworks Display.
| • Sponsor: Bar Harbor Chamber of Commerce.
| • Date: July 4th, as specified in the USCG District 1 Local Notice to Mariners.
| • Time: 8:00 pm to 10:30 pm.
| • Location: In the vicinity of Bar Harbor Town Pier, Bar Harbor, Maine in approximate position:
| 44° 23′31″ N, 068° 12′15″ W (NAD 83).
7.5 Boothbay Harbor 4th of July Fireworks | • Event Type: Fireworks Display.
| • Sponsor: Town of Boothbay Harbor.
| • Date: July 4th, as specified in the USCG District 1 Local Notice to Mariners.
| • Time: 8:00 pm to 10:30 pm.
| • Location: In the vicinity of McFarland Island, Boothbay Harbor, Maine in approximate position:
| 43° 50′38″ N, 069° 37′57″ W (NAD 83).
7.6 Colchester 4th of July Fireworks | • Event Type: Fireworks Display.
| • Sponsor: Town of Colchester, Recreation Department.
| • Date: July 4th, as specified in the USCG District 1 Local Notice to Mariners.
| • Time: 8:00 pm to 10:00 pm.
| • Location: In the vicinity of Bayside Beach and Mallets Bay in Colchester, Vermont at approximate position:
| 44° 32′44″ N, 073° 13′10″ W (NAD 83).
7.7 Eastport 4th of July Fireworks | • Event Type: Fireworks Display.
| • Sponsor: Eastport 4th of July Committee.
| • Date: July 4th, as specified in the USCG District 1 Local Notice to Mariners.
| • Time: 9:00 pm to 9:30 pm.
| • Location: From the Waterfront Public Pier in Eastport, Maine at approximate position:
| 44° 54′25″ N, 066° 58′55″ W (NAD 83).
7.8 Hampton Beach 4th of July Fireworks | • Event Type: Fireworks Display.
| • Sponsor: Hampton Beach Village District.
| • Date: July 4th, as specified in the USCG District 1 Local Notice to Mariners.
| • Time: 8:30 pm to 11:00 pm.
| • Location: In the vicinity of Hampton Beach, New Hampshire in approximate position:
| 42° 54′40″ N, 070° 48′31″ W (NAD 83).
7.9 Jonesport 4th of July Fireworks | • Event Type: Fireworks Display.
| • Sponsor: Jonesport 4th of July Committee.
| • Date: July 4th, as specified in the USCG District 1 Local Notice to Mariners.
| • Time: 9:30 pm to 10:00 pm.
| • Location: In the vicinity of Beals Island, Jonesport, Maine in approximate position:
| 44° 31′18″ N, 067° 36′43″ W (NAD 83).
7.10 Main Street Heritage Days 4th of July Fireworks | • Event Type: Fireworks Display.
| • Sponsor: Main Street Inc.
| • Date: July 4th, as specified in the USCG District 1 Local Notice to Mariners.
| • Time: 8:00 pm to 10:30 pm.
| • Location: In the vicinity of Reed and Reed Boat Yard, Woolwich, Maine in approximate position:
| 43° 54′56″ N, 069° 48′16″ W (NAD 83).
7.11 Portland Harbor 4th of July Fireworks | • Event Type: Fireworks Display.
| • Sponsor: Department of Parks and Recreation, Portland, Maine.
| • Date: July 4th, as specified in the USCG District 1 Local Notice to Mariners.
| • Time: 8:30 pm to 10:30 pm.
| • Location: In the vicinity of East End Beach, Portland, Maine in approximate position:
| 43° 40′16″ N, 070° 14′44″ W (NAD 83).
7.12 St. Albans Day Fireworks | • Event Type: Fireworks Display.
| • Sponsor: St. Albans Area Chamber of Commerce.
| • Date: July 4th, as specified in the USCG District 1 Local Notice to Mariners.
| • Time: 9:00 pm to 10:00 pm.
| • Location: From the St. Albans Bay dock in St. Albans Bay, Vermont in the approximate position:
| 44° 48′25″ N, 073° 08′23″ W (NAD 83).
7.13 Stonington 4th of July Fireworks | • Event Type: Fireworks Display.
| • Sponsor: Deer Isle—Stonington Chamber of Commerce.
| • Date: July 4th, as specified in the USCG District 1 Local Notice to Mariners.
| • Time: 8:00 pm to 10:30 pm.
| • Location: In the vicinity of Two Bush Island, Stonington, Maine in approximate position:
| 44° 08′57″ N, 068° 39′54″ W (NAD 83).
7.14 Urban/EPIC Triathlon | • Event Type: Swim Event.
| • Sponsor: Tri-Maine Productions.
| • Date: A one day event on Saturday during the second week of July, as specified in the USCG District 1 Local Notice to Mariners.
| • Time: 7:00 am to 11:00 am.
| • Location: The regulated area includes all waters of Portland Harbor in the vicinity of East End Beach in Portland, Maine within the following points (NAD 83):
| 43° 40′00″ N 070° 14′20″ W.
| 43° 40′00″ N 070° 14′00″ W.
| 43° 40′15″ N 070° 14′29″ W.
| 43° 40′17″ N 070° 13′22″ W.
7.15 Tri for a Cure Swim Clinics | • Event Type: Swim Event.
| • Sponsor: Maine Cancer Foundation.
| • Date: A two day event held on third Sunday and Thursday in July, as specified in the USCG District 1 Local Notice to Mariners.
| • Time: 12:30 pm to 7:30 pm.
| • Location: The regulated area includes all waters of Portland Harbor, Maine in the vicinity of Spring Point Light within the following points (NAD 83):
| 43° 39′01″ N 070° 13′32″ W.
| 43° 39′07″ N 070° 13′29″ W.
| 43° 39′06″ N 070° 13′41″ W.
| 43° 39′01″ N 070° 13′36″ W.
7.16 Richmond Days Fireworks | • Event Type: Fireworks Display.
| • Sponsor: Town of Richmond, Maine.
| • Date: A one day event on Saturday during the fourth weekend of July, as specified in the USCG District 1 Local Notice to Mariners.
| • Time: 8:00 pm to 10:00 pm.
| • Location: From a barge in the vicinity of the inner harbor, Tenants Harbor, Maine in approximate position:
| 44° 08′42″ N, 068° 27′06″ W (NAD83).
7.17 Colchester Triathlon | • Event Type: Swim Event.
| • Sponsor: Colchester Parks and Recreation Department.
| • Date: A one day event on Wednesday during the last week of July, as specified in the USCG District 1 Local Notice to Mariners.
| • Time: 7:00 am to 11:00 am.
| • Location: The regulated area includes all waters of Malletts Bay on Lake Champlain, Vermont within the following points (NAD 83):
| 44° 32′18″ N 073° 12′35″ W.
| 44° 32′28″ N 073° 12′56″ W.
| 44° 32′57″ N 073° 12′38″ W.
7.18 Peaks to Portland Swim | • Event Type: Swim Event.
| • Sponsor: Cumberland County YMCA.
| • Date: A one day event on Saturday during the last week of July, as specified in the USCG District 1 Local Notice to Mariners.
| • Time: 5:00 am to 1:00 pm.
| • Location: The regulated area includes all waters of Portland Harbor between Peaks Island and East End Beach in Portland, Maine within the following points (NAD 83):
| 43° 39′20″ N 070° 11′58″ W.
| 43° 39′45″ N 070° 13′19″ W.
| 43° 40′11″ N 070° 14′13″ W.
| 43° 40′08″ N 070° 14′29″ W.
| 43° 40′00″ N 070° 14′23″ W.
| 43° 39′34″ N 070° 13′31″ W.
| 43° 39′13″ N 070° 11′59″ W.
8.0 | AUGUST
8.1 Sprucewold Cabbage Island Swim | • Event Type: Swim Event.
| • Sponsor: Sprucewold Association.
| • Date: A one day event on Saturday during the first week of August, as specified in the USCG District 1 Local Notice to Mariners.
| • Time: 1:00 pm to 6:00 pm.
| • Location: The regulated area includes all waters of Linekin Bay between Cabbage Island and Sprucewold Beach in Boothbay Harbor, Maine within the following points (NAD 83):
| 43° 50′37″ N 069° 36′23″ W.
| 43° 50′37″ N 069° 36′59″ W.
| 43° 50′16″ N 069° 36′46″ W.
| 43° 50′22″ N 069° 36′21″ W.
8.2 Westerlund's Landing Party Fireworks | • Event Type: Fireworks Display.
| • Sponsor: Portside Marina.
| • Date: A one day event on Saturday during the first weekend of August, as specified in the USCG District 1 Local Notice to Mariners.
| • Time: 8:00 pm to 10:30 pm.
| • Location: In the vicinity of Westerlund's Landing in South Gardiner, Maine in approximate position:
| 44° 10′19″ N, 069° 45′24″ W (NAD 83).
8.3 Y-Tri Triathlon | • Event Type: Swim Event.
| • Sponsor: Plattsburgh YMCA.
| • Date: A one day event on Saturday during the first week of August, as specified in the USCG District 1 Local Notice to Mariners.
| • Time: 9:00 am to 10:00 am.
| • Location: The regulated area includes all waters of Treadwell Bay on Lake Champlain in the vicinity of Point Au Roche State Park, Plattsburgh, New York within the following points (NAD 83):
| 44° 46′30″ N 073° 23′26″ W.
| 44° 46′17″ N 073° 23′26″ W.
| 44° 46′17″ N 073° 23′46″ W.
| 44° 46′29″ N 073° 23′46″ W.
8.4 Greater Burlington YMCA Lake Swim | • Event Type: Swim Event.
| • Sponsor: Greater Burlington YMCA.
| • Date: A one day event on Saturday during the second week of August, as specified in the USCG District 1 Local Notice to Mariners.
| • Time: 8:00 am to 6:00 pm.
| • Location: The regulated area includes all waters in Lake Champlain in the vicinity of North Hero Island within the following points (NAD 83):
| 44° 46′55″ N 073° 22′14″ W.
| 44° 47′08″ N 073° 19′05″ W.
| 44° 46′48″ N 073° 17′13″ W.
| 44° 46′10″ N 073° 16′39″ W.
| 44° 41′08″ N 073° 20′58″ W.
| 44° 41′36″ N 073° 23′01″ W.
8.5 Tri for a Cure Triathlon | • Event Type: Swim Event.
| • Sponsor: Maine Cancer Foundation.
| • Date: A one day event on the second Sunday in August, as specified in the USCG District 1 Local Notice to Mariners.
| • Time: 12:30 pm to 4:30 pm.
| • Location: The regulated area includes all waters of Portland Harbor, Maine in the vicinity of Spring Point Light within the following points (NAD 83):
| 43° 39′01″ N 070° 13′32″ W.
| 43° 39′07″ N 070° 13′29″ W.
| 43° 39′06″ N 070° 13′41″ W.
| 43° 39′01″ N 070° 13′36″ W.
8.6 Tri for a Cure Swim Clinics | • Event Type: Swim Event.
| • Sponsor: Maine Cancer Foundation.
| • Date: A two day event held on the first and second Saturday in August, as specified in the USCG District 1 Local Notice to Mariners.
| • Time: 8:30 am to 11:30 am.
| • Location: The regulated area includes all waters of Portland Harbor, Maine in the vicinity of Spring Point Light within the following points (NAD 83):
| 43° 39′01″ N 070° 13′32″ W.
| 43° 39′07″ N 070° 13′29″ W.
| 43° 39′06″ N 070° 13′41″ W.
| 43° 39′01″ N 070° 13′36″ W.
8.7 Rockland Breakwater Swim | • Event Type: Swim Event.
| • Sponsor: Pen-Bay Masters.
| • Date: A one day event on Saturday during the fourth week of August, as specified in the USCG District 1 Local Notice to Mariners.
| • Time: 7:30 am to 1:30 pm.
| • Location: The regulated area includes all waters of Rockland Harbor, Maine in the vicinity of Jameson Point within the following points (NAD 83):
| 44° 06′16″ N 069° 04′39″ W.
| 44° 06′13″ N 069° 04′36″ W.
| 44° 06′12″ N 069° 04′43″ W.
| 44° 06′17″ N 069° 04′44″ W.
| 44° 06′18″ N 069° 04′40″ W.
9.0 | SEPTEMBER
9.1 Windjammer Weekend Fireworks | • Event Type: Fireworks Display.
| • Sponsor: Town of Camden, Maine.
| • Date: A one day event on Friday during the first weekend of September, as specified in the USCG District 1 Local Notice to Mariners.
| • Time: 8:00 pm to 9:30 pm.
| • Location: From a barge in the vicinity of Northeast Point, Camden Harbor, Maine in approximate position:
| 44° 12′10″ N, 069° 03′11″ W (NAD 83).
9.2 The Lobsterman Triathlon | • Event Type: Swim Event.
| • Sponsor: Tri-Maine Productions.
| • Date: A one day swim event on Saturday during the second weekend of September, as specified in the USCG District 1 Local Notice to Mariners.
| • Time: 8:00 am to 11:00 am.
| • Location: The regulated area includes all waters in the vicinity of Winslow Park in South Freeport, Maine within the following points (NAD 83):
| 43° 47′59″ N 070° 06′56″ W.
| 43° 47′44″ N 070° 06′56″ W.
| 43° 47′44″ N 070° 07′27″ W.
| 43° 47′57″ N 070° 07′27″ W.
9.3 Burlington Triathlon | • Event Type: Swim Event.
| • Sponsor: Race Vermont.
| • Date: A one day swim event on Sunday during the second weekend of September, as specified in the USCG District 1 Local Notice to Mariners.
| • Time: 7:00 am to 10:00 am.
| • Location: The regulated area includes all waters in the vicinity of North Beach, Burlington, Vermont within the following points (NAD 83):
| 44° 29′31″ N 073° 14′22″ W.
| 44° 29′12″ N 073° 14′14″ W.
| 44° 29′17″ N 073° 14′34″ W.
9.4 Eliot Festival Day Fireworks | • Event Type: Fireworks Display.
| • Sponsor: Eliot Festival Day Committee.
| • Date: A one day event on Saturday during the fourth weekend of September, as specified in the USCG District 1 Local Notice to Mariners.
| • Time: 8:00 pm to 10:30 pm.
| • Location: In the vicinity of Eliot Town Boat Launch, Eliot, Maine in approximate position:
| 43° 08′56″ N, 070° 49′52″ W (NAD 83).

Dated: March 10, 2011.
J.B. McPherson,
Captain, U.S. Coast Guard, Captain of the Port Sector Northern New England.

[FR Doc. 2011-6783 Filed 3-29-11; 8:45 am]

BILLING CODE 9110-04-P